DEPARTMENT OF HEALTH AND HUMAN SERVICES

Centers for Disease Control and Prevention

[60 Day-02-23]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Use of a Reader Response Form by Workers Notified if Results of Epidemiologic Studies—NEW—The National Institute for Occupational Safety and Health (NIOSH), Centers for Disease Control and Prevention (CDC). The mission of NIOSH is to promote safety and health at work for all people through research and prevention.

NIOSH routinely notifies subjects about the results of epidemiologic studies and the implications of the results. The overall purpose of the proposed project is to gain insight into the effectiveness of NIOSH worker notification, in order to improve the quality and usefulness of the Institute's worker notification activities. Researchers from the NIOSH Division of Surveillance, Hazard Evaluations and Field Studies (DSHEFS) propose to provide notified workers with a Reader Response Form as an evaluation instrument for routinely assessing individual letter notification materials sent to them by NIOSH.

The results of this ongoing evaluation activity will be used to refine notification activities by standardizing and streamlining written notification materials, and to develop materials which are more readable, understandable, and informative to notified workers, their families, and other stakeholders. The findings from these evaluations may also allow the NIOSH worker notification program to help alleviate any negative impacts and enhance any positive impacts of risk communications.

The objective of the Reader Response Form, therefore, is to provide a structured reporting form which will capture the recipients' responses concerning the effectiveness of the NIOSH notification efforts and their impact on workers and other stakeholders.

The average number of letter-type notifications is estimated at 8,000 per year. Each form is estimated to take less than 10 minutes to complete. There are no cost to respondents other than their time to complete the Reader Response Form.

Respondents | No. of respondents | No. of responses/respondent | Avg. burden per response (in hours) | Total burden (in hours)
Reader Response Form | 8000 | 1 | 10/60 | 1,333

Dated: January 29, 2002.
Nancy E. Cheal,
Acting Associate Director for Program, Planning and Evaluation, Centers for Disease Control and Prevention.

[FR Doc. 02-2646 Filed 2-4-02; 8:45 am]

BILLING CODE 4163-18-P